DEPARTMENT OF ENERGY

Federal Energy Regulatory Commission

[Docket Nos. ER03-421-005, et al.]

ISO New England Inc., et al.; Electric Rate and Corporate Filings

August 26, 2003.

The following filings have been made with the Commission. The filings are listed in ascending order within each docket classification.

1. ISO New England Inc.

[Docket No. ER03-421-005 and ER03-563-014]

Take notice that on August 22, 2003, ISO New England Inc. (ISO) submitted a Compliance Filing in the above-captioned proceeding as directed by the Commission in its August 12, 2003 Order on Cost Information, 104 FERC § 61,199. The ISO states that copies of the filing have been served on all parties to the above-captioned proceeding.

Comment Date: September 12, 2003.

2. Midwest Independent Transmission System Operator, Inc.

[Docket No ER03-869-001]

Take notice that on August 22, 2003, Midwest Independent Transmission System Operator, Inc. (Midwest ISO the) tendered for filing an amendment to its May 23, 2003 filing in Docket No. ER03-869-000 in compliance with the Commission's deficiency letter request dated July 22, 2003.

The Midwest ISO states it has served copies of its filing on all affected customers. Midwest ISO also states that it has electronically served a copy of this filing, without attachments, upon all Midwest ISO Members, Member representatives of Transmission Owners and Non-Transmission Owners, the Midwest ISO Advisory Committee participants, as well as all state commissions within the region. Midwest states that the filing has been electronically posted on the Midwest ISO's Web site at www.midwestiso.org under the heading “Filings to FERC” for other interested parties in this matter. The Midwest ISO will provide hard copies to any interested parties upon request.

Comment Date: September 12, 2003.

3. Delano Energy Company, Inc.

[Docket No. ER00-891-002]

Take notice that on August 21, 2003, AES Delano, Inc. (Delano), pursuant to the Federal Energy Regulatory Commission's Order in Docket No. ER00-891-000, submitted its triennial market power update. In addition, pursuant to Section 205 of the Federal Power Act, Delano submitted its second revision to FERC Electric Rate Schedule, Original Volume No. 1, and its supplemental code of conduct reflecting changed corporate affiliations.

Comment Date: September 11, 2003.

4. Midwest Independent Transmission System Operator, Inc.

[Docket No. ER03-1048-001]

Take notice that on August 22, 2003, the Midwest Independent Transmission System Operator, Inc. (Midwest ISO), pursuant to Section 205 of the Federal Power Act and Section 35.13 of the Commission's regulations, 18 CFR 35.13, submitted for filing a revised unexecuted Interconnection and Operating Agreement among American Transmission Company LLC and Upper Peninsula Power Company.

Midwest ISO states that a copy of this filing was served on American Transmission Company LLC and Upper Peninsula Power Company.

Comment Date: September 12, 2003.

5. Tosco Power, Inc.

[Docket No. ER03-1205-000]

Take notice that on August 12, 2003, ConocoPhillips Company (ConocoPhillips) tendered for filing a Notice of Cancellation for Tosco Power, Inc. (Tosco), of Tosco's market-based authority approved by the Commission in Docket No. ER96-2635-000 to be effective December 31, 2002. ConocoPhillips states that Tosco is no longer in existence.

Comment Date: September 8, 2003.

6. AES Delano, Inc.

[Docket No. ER03-1207-000]

Take notice that on August 12, 2003, AES Delano, Inc. submitted notification that Delano Energy Company, Inc. has changed its name to AES Delano, Inc.

Comment Date: September 8, 2003.

7. Consolidated Edison Company of New York, Inc.

[Docket No. ER03-1238-000]

Take notice that on August 22, 2003, Consolidated Edison Company of New York, Inc. (Con Edison) tendered for filing an Interconnection Agreement by and between Con Edison and KeySpan-Ravenswood, LLC, dated August 1, 2003. Con Edison states that the agreement provides for the interconnection to Con Edison's transmission system of a 250 MW electric generating facility that KeySpan-Ravenswood is constructing and will operate in the Borough of Queens, New York.

Comment Date: September 12, 2003.

8. PJM Interconnection, L.L.C.

[Docket No. ER03-1239-000]

Take notice that on August 22, 2003, PJM Interconnection, L.L.C. (PJM), submitted for filing an Interconnection Service Agreement (ISA) among PJM, Prince George's County, Maryland, A Body Corporate and Politic, and Potomac Electric Power Company and a notice of cancellation of an Interim ISA that has been superseded.

PJM requests a waiver of the Commission's 60-day notice requirement to permit a July 24, 2003 effective date for the ISA.

PJM states that copies of this filing were served upon the parties to the agreements and the state regulatory commissions within the PJM region.

Comment Date: September 12, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-22463 Filed 9-3-03; 8:45 am]

BILLING CODE 6717-01-P